DEPARTMENT OF COMMERCE

National Oceanic and Atmospheric Administration

Evaluation of Great Bay National Estuarine Research Reserve; Public Meeting

AGENCY: Office for Coastal Management (OCM), National Ocean Service (NOS), National Oceanic and Atmospheric Administration (NOAA), Department of Commerce (DOC).

ACTION: Notice of public meeting.

SUMMARY: The National Oceanic and Atmospheric Administration (NOAA), Office for Coastal Management will hold a public meeting to solicit comments for the performance evaluation of the Great Bay National Estuarine Research Reserve.

DATES: Great Bay National Estuarine Research Reserve Evaluation: The public meeting will be held on Tuesday, July 23, 2019, and written comments must be received on or before Friday, August 2, 2019.

For the specific date, time, and location of the public meeting, see SUPPLEMENTARY INFORMATION.

ADDRESSES: You may submit comments on the reserve by any of the following methods:

Public Meeting and Oral Comments: A public meeting will be held in Greenland, New Hampshire for the Great Bay National Estuarine Research Reserve. For the specific location, see SUPPLEMENTARY INFORMATION.

Written Comments: Please direct written comments to Susie Holst Rice, Evaluator, NOAA Office for Coastal Management, 35 Colovos Road, University of New Hampshire, Gregg Hall, Room 142, Durham, New Hampshire 03824, or via email to Susie.Holst@noaa.gov.

FOR FURTHER INFORMATION CONTACT: Susie Holst Rice, Evaluator, NOAA Office for Coastal Management, 35 Colovos Road, University of New Hampshire, Gregg Hall, Room 142, Durham, New Hampshire 03824, by phone at (603) 862-1205, or via email to Susie.Holst@noaa.gov. Copies of the previous evaluation findings, Management Plan, and Site Profile may be viewed and downloaded on the internet at http://coast.noaa.gov/czm/evaluations. A copy of the evaluation notification letter and most recent performance report may be obtained upon request by contacting the person identified under FOR FURTHER INFORMATION CONTACT.

SUPPLEMENTARY INFORMATION: Sections 312 and 315 of the Coastal Zone Management Act (CZMA) require NOAA to conduct periodic evaluations of federally-approved National Estuarine Research Reserves. The process includes a public meeting, consideration of written public comments, and consultations with interested Federal, state, and local agencies and members of the public. For the evaluation of National Estuarine Research Reserves, NOAA will consider the extent to which the state has met the national objectives, adhered to its management plan approved by the Secretary of Commerce, and adhered to the terms of financial assistance under the Coastal Zone Management Act. When the evaluation is completed, NOAA's Office for Coastal Management will place a notice in the Federal Register announcing the availability of the Final Evaluation Findings.

You may participate and submit oral comments at the public meeting scheduled as follows:

Date: Tuesday, July 23, 2019.

Time: 5:00 p.m., local time.

Location: Hugh Gregg Conservation Center, 91 Depot Road, Greenland, NH 03840.

Written comments must be received on or before Friday, August 2, 2019.

Dated: May 13, 2019.
Keelin Kuipers,
Deputy Director, Office for Coastal Management, National Ocean Service, National Oceanic and Atmospheric Administration.

Federal Domestic Assistance Catalog 11.419.

Coastal Zone Management Program Administration.

[FR Doc. 2019-10628 Filed 5-21-19; 8:45 am]

BILLING CODE 3510-08-P